NUCLEAR REGULATORY COMMISSION

Meeting; Sunshine Act

Date: Weeks of June 28, July 5, 12, 19, 26, August 2, 2004.

Place: Commissioners' Conference Room, 11555 Rockville Pike, Rockville, Maryland.

Status: Public and closed.

Matters To Be Considered:

Week of June 28, 2004

There are no meetings scheduled for the week of June 28, 2004.

Week of July 5, 2004—Tentative

Wednesday, July 7, 2004:

1:55 p.m.—Affirmation Session (public meeting) (if needed).

Week of July 12, 2004—Tentative

Tuesday, July 13, 2004:

2:15 p.m.—Discussion of Security Issues (closed—Ex. 1).

Week of July 19, 2004—Tentative

Wednesday, July 21, 2004:

9:30 a.m.—Meeting with Advisory Committee on Nuclear Waste (ACNW) (public meeting) (contact: John Karkins (301) 415-7360). This meeting will be Web cast live at the Web address— http://www.nrc.gov.

Week of July 26, 2004—Tentative

There are no meetings scheduled for the week of July 26, 2004.

Week of August 2, 2004—Tentative

There are no meetings scheduled for the week of August 2, 2004.

* The schedule for Commission meetings is subject to change on short notice. To verify the status of meetings call (recording)—(301) 415-1292. Contact person for more information: Dave Gamberoni, (301) 415-1651.

* * * * *

The NRC Commission Meeting Schedule can be found on the Internet at: http://www.nrc.gov/what-we-do/policy-making/schedule.html.

* * * * *

The NRC provides reasonable accommodation to individuals with disabilities where appropriate. If you need a reasonable accommodation to participate in these public meetings, or need this meeting notice or the transcript or other information from the public meetings in another format (e.g., braille, large print), please notify the NRC's Disability Program Coordinator, August Spector, at (301) 415-7080, TDD: (301) 415-2100, or by e-mail at aks@nrc.gov. Determinations on requests for reasonable accommodation will be made on a case-by-case basis.

* * * * *

This notice is distributed by mail to several hundred subscribers; if you no longer wish to receive it or would like to be added to the distribution please contact the Office of the Secretary, Washington, DC 20555 (301) 415-1969. In addition, distribution of this meeting notice over the Internet system is available. If you are interested in receiving this Commission meeting schedule electronically, please send an electronic message to dkw@nrc.gov.

Dated: June 24, 2004.
Dave Gamberoni,
Office of the Secretary.

[FR Doc. 04-14771 Filed 6-25-04; 9:29 am]

BILLING CODE 7590-01-M